DEPARTMENT OF ENERGY

Federal Energy Regulatory Commission

Combined Notice of Filings

Take notice that the Commission has received the following Natural Gas Pipeline Rate and Refund Report filings:

Filings Instituting Proceedings

Docket Numbers: PR15-32-000.

Applicants: Minnesota Energy Resources Corporation.

Description: Submits tariff filing per 284.123(b)(1) + (g): Rates Update to be effective 4/1/2015; Filing Type: 1300.

Filed Date: 4/1/15.

Accession Number: 20150401-5304.

Comments Due: 5 p.m. ET 4/22/15.

284.123(g) Protests Due: 5 p.m. ET 6/1/15.

Docket Numbers: PR15-33-000.

Applicants: SourceGas Arkansas Inc.

Description: Submits tariff filing per 284.123(b)(2) + (g): Petition for Approval of Rates to be effective 4/2/2015; Filing Type: 1310.

Filed Date: 4/1/15.

Accession Number: 20150401-5426.

Comments Due: 5 p.m. ET 4/22/15.

284.123(g) Protests Due: 5 p.m. ET 6/1/15.

Docket Numbers: PR15-34-000.

Applicants: Bridgeline Holdings, L.P.

Description: Submits tariff filing per 284.123(b)(2) + (g): Section 311 Rate Case 4-1-15 to be effective 4/1/2015; Filing Type: 1310.

Filed Date: 4/1/15.

Accession Number: 20150401-5428.

Comments Due: 5 p.m. ET 4/22/15.

284.123(g) Protests Due: 5 p.m. ET 6/1/15.

Docket Numbers: RP15-848-000.

Applicants: ANR Pipeline Company.

Description: § 4(d) rate filing per 154.601: WEPC NNS Agmt to be effective 4/1/2015.

Filed Date: 4/2/15.

Accession Number: 20150402-5146.

Comments Due: 5 p.m. ET 4/14/15.

Docket Numbers: RP15-849-000.

Applicants: Rockies Express Pipeline LLC.

Description: § 4(d) rate filing per 154.204: Neg Rate 2015-04-02 Encana to be effective 4/2/2015.

Filed Date: 4/2/15.

Accession Number: 20150402-5266.

Comments Due: 5 p.m. ET 4/14/15.

Docket Numbers: RP15-850-000.

Applicants: Natural Gas Pipeline Company of America.

Description: Compliance filing per 154.203: Revised Compliance Filing to be effective 5/1/2015.

Filed Date: 4/2/15.

Accession Number: 20150402-5269.

Comments Due: 5 p.m. ET 4/14/15.

Docket Numbers: RP15-851-000.

Applicants: U.S. Energy Services, Inc.,World Fuel Services, Inc.

Description: Petition for Temporary Waivers of Capacity Release Regulations of World Fuel Services, Inc. and U.S. Energy Services, Inc., et al.

Filed Date: 4/2/15.

Accession Number: 20150402-5322.

Comments Due: 5 p.m. ET 4/14/15.

Docket Numbers: RP15-852-000.

Applicants: Rockies Express Pipeline LLC.

Description: § 4(d) rate filing per 154.204: Neg Rate 2015-04-03 BP, ConocoPhillips to be effective 4/3/2015.

Filed Date: 4/3/15.

Accession Number: 20150403-5152.

Comments Due: 5 p.m. ET 4/15/15.

Docket Numbers: RP15-853-000.

Applicants: El Paso Natural Gas Company, L.L.C.

Description: Informational Report of Negotiated Rate Agreements of El Paso Natural Gas Company, L.L.C.

Filed Date: 4/3/15.

Accession Number: 20150403-5163.

Comments Due: 5 p.m. ET 4/15/15.

Docket Numbers: RP15-854-000.

Applicants: First ECA Midstream LLC.

Description: § 4(d) rate filing per 154.204: Normal filing to be effective 11/29/2012.

Filed Date: 4/6/15.

Accession Number: 20150406-5059.

Comments Due: 5 p.m. ET 4/20/15.

Docket Numbers: RP15-856-000.

Applicants: East Tennessee Natural Gas, LLC.

Description: Request for Waiver of East Tennessee Natural Gas, LLC.

Filed Date: 4/6/15.

Accession Number: 20150406-5211.

Comments Due: 5 p.m. ET 4/20/15.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP15-23-005.

Applicants: Transwestern Pipeline Company, LLC.

Description: Compliance filing per 154.203: RP15-23 Correct Compliance Filing to be effective 4/1/2015.

Filed Date: 4/2/15.

Accession Number: 20150402-5197.

Comments Due: 5 p.m. ET 4/14/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2015.
Nathaniel J. Davis, Sr.,
Deputy Secretary.

[FR Doc. 2015-08399 Filed 4-10-15; 8:45 am]

BILLING CODE 6717-01-P